NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Legislative Archives, Presidential Libraries, and Museum Services (LPM).

This meeting will take place at the Capitol Visitor Center and also via AT&T Connect web conference.

DATES: June 24, 2013 from 10:00 a.m. to 11:30 a.m.

ADDRESSES: Capitol Visitor Center, Congressional Room North or AT&T Connect Web.

FOR FURTHER INFORMATION CONTACT: Center for Legislative Archives (202) 357-5350.

Sharon Fitzpatrick for CVC location, sharon.fitzpatrick@nara.gov

Brandon Hirsch for AT&T Connect, brandon.hirsch@nara.gov

SUPPLEMENTARY INFORMATION:

Agenda

1. Chair's Opening Remarks—Clerk of the U.S. House of Representatives

2. Recognition of Co-chair—Secretary of the U.S. Senate

3. Recognition of the Archivist of the United States

4. Approval of the minutes of the last meeting

5. Senate Archivist's report—Karen Paul

6. House Archivist's report—Robin Reeder

7. Update on implementation of integrated accessioning and description system—House, Senate, Center

8. Issues of interest raised at the ACSC annual meeting

9. Center Update—Richard Hunt

10. Other current issues and new business

The meeting is open to the public via conference room and AT&T Connect.

Dated: June 5, 2013.
Patrice Murray,
Acting Committee Management Officer.

[FR Doc. 2013-13783 Filed 6-10-13; 8:45 am]

BILLING CODE 7515-01-P